LEGAL SERVICES CORPORATION

Extension of Comment Period for Agricultural Worker Population Data for Basic Field—Migrant Grants

AGENCY: Legal Services Corporation.

ACTION: Extension of comment period.

SUMMARY: The Legal Services Corporation (LSC) published in the Federal Register on February 3, 2015, a notice for comment regarding new data from the U.S. Department of Labor regarding agricultural workers and their dependents. LSC is extending the public comment period from March 20 to April 20, 2015, in response to requests for additional time and data.

DATES: Comments must be received on or before April 20, 2015.

ADDRESSES: Written comments must be submitted to Mark Freedman, Senior Assistant General Counsel, Legal Services Corporation, 3333 K St. NW., Washington, DC 20007; 202-295-1623 (phone); 202-337-6519 (fax); mfreedman@lsc.gov. Electronic submissions are preferred via email with attachments in Acrobat PDF format. Written comments sent to any other address or received after the end of the comment period may not be considered by LSC.

FOR FURTHER INFORMATION CONTACT: Mark Freedman, Senior Assistant General Counsel, Legal Services Corporation, 3333 K St. NW., Washington, DC 20007; 202-295-1623 (phone); 202-337-6519 (fax); mfreedman@lsc.gov.

SUPPLEMENTARY INFORMATION: In response to requests for additional time and data, LSC is extending the comment period noticed in the Federal Register on February 3, 2015, 80 FR 5791, from March 20, 2015 to April 20, 2015. In that document, LSC sought comment regarding new data from the U.S. Department of Labor regarding agricultural workers and their dependents. LSC proposes using this data to determine funding levels for Basic Field-Migrant grants and related adjustments to Basic Field—General grants. A description of these data and other related documents is available at: http://www.lsc.gov/about/mattersforcomment.php.

Dated: March 13, 2015.
Stefanie K. Davis,
Assistant General Counsel.

[FR Doc. 2015-06286 Filed 3-18-15; 8:45 am]

BILLING CODE 7050-01-P